DEPARTMENT OF COMMERCE

National Oceanic and Atmospheric Administration

Workshop—Monitoring Changes in Extreme Storm Statistics: State of Knowledge; Notice of Open Public Workshop

AGENCY: National Environmental Satellite, Data, and Information Service (NESDIS), National Oceanic and Atmospheric Administration (NOAA), Department of Commerce (DOC).

ACTION: Notice of open public workshop.

SUMMARY: This notice sets forth the schedule and topics of an upcoming workshop hosted by NOAA's National Climatic Data Center in Asheville, North Carolina. Invited participants will discuss topics as outlined below.

Members of the public are invited to attend the workshop, and are required to fulfill a request to RSVP to brooke.stewart@noaa.gov by 5 p.m. EDT, Friday, July 14, 2011 if they wish to attend. The workshop is to be held in a federal facility; building-security restrictions preclude attendance by members of the public who do not RSVP by the deadline. Space is also limited and public attendees will be admitted based on the order in which RSVPs are received.

The public will be invited to offer their comments during a 30-minute period to be held from 9:30 to 10 a.m. on Monday, July 25, 2011. Each individual or group making a verbal presentation will be limited to a total time of five minutes.

DATES: RSVP Deadline: Any member of the public wishing to attend the workshop must RSVP no later than 5 p.m. EDT on July 14, 2011.

Workshop Date and Time: The workshop will be held on July 25-27, 2011 at the following times: July 25, 2011 from 8:15 a.m. to 5:30 pm; July 26, 2011 from 8:15 a.m. to 5:30 p.m.; and July 27, 2011 from 8:15 a.m. to 2 p.m.

ADDRESSES: The workshop will be held at the Veach-Baley Federal Complex, located at 151 Patton Avenue, Asheville, North Carolina 28801.

For changes in the schedule, agenda, and updated information, please check the workshop website at https://sites.google.com/a/noaa.gov/severe-storms-workshop/.

FOR FURTHER INFORMATION CONTACT: Brooke Stewart, National Climatic Data Center, 151 Patton Avenue, Rm. 563, Asheville, North Carolina 28801. (Phone: 828-257-3020, E-mail: brooke.stewart@noaa.gov.)

SUPPLEMENTARY INFORMATION: This workshop will provide an update to the climate science surrounding extreme events. The intent is to make key input available to the National Climate Assessment (NCA) for consideration. Further information regarding the NCA is available at http://www.globalchange.gov/what-we-do/assessment). NOAA is sponsoring this workshop in support of the National Climate Assessment process.

As workshop materials become available, they may be found at https://sites.google.com/a/noaa.gov/severe-storms-workshop/.

Topics To Be Addressed: This conference will address all aspects of trend monitoring for severe storms. Specific topics include: Severe Thunderstorms (and associated hail and winds), tornadoes, extreme precipitation, hurricanes (winds and rainfall) and typhoons, severe snowstorms and ice storms. The workshop will consider monitoring both physical measurements of these events as well as proxy information such as socio-economic impact.

Participants will consider:

• what determinations can be made regarding the detection of trends;

• what determinations can be made regarding possible causes of any observed trends; and

• what degree of confidence is implied by the best available science regarding the detection and possible causes of trends

The workshop will feature invited speakers and discussions. The workshop is designed to produce a draft detailed outline of an article for submission to a peer-reviewed journal.

The report from this workshop will also include the following:

(1) Maintenance/updates of the data sets related to the events considered.

(2) What are the key impediments in detecting changes in the events?

(3) How can the impediments be overcome?

Mary E. Kicza,
NOAA Assistant Administrator for Satellite and Information Services.

[FR Doc. 2011-16428 Filed 6-29-11; 8:45 am]

BILLING CODE P